DEPARTMENT OF HEALTH AND HUMAN SERVICES

Health Resources and Services Administration

National Advisory Council on Migrant Health Meeting Cancellation

AGENCY: Health Resources and Services Administration; Department of Health and Human Services.

ACTION: Notice of meeting cancellation.

SUMMARY: This is to notify the public that the July 29-30, 2020, and November 4-5, 2020, meetings of the National Advisory Council on Migrant Health (NACMH) are canceled.

FOR FURTHER INFORMATION CONTACT: Esther Paul, NACMH Designated Federal Officer, Strategic Initiatives and Planning Division, Office of Policy and Program Development, Bureau of Primary Health Care, HRSA, 5600 Fishers Lane, 16N38B, Rockville, Maryland 20857; 301-594-4300; or epaul@hrsa.gov.

SUPPLEMENTARY INFORMATION: The decision to cancel these NACMH meetings has been made after carefully considering the difficulties of obtaining a quorum in light of the current COVID-19 public health emergency and council members' concerns regarding their inability to access the needed internet speeds to conduct a video meeting. Consistent with the provisions in the NACMH Charter, these meetings were previously announced in the Federal Register, as follows:

Meeting I

July 29-30, 2020

Federal Register, Vol. 85, No. 67, Tuesday, April 7, 2020 (FR Doc. 2020-07204, filed 4-6-20)

Meeting II

November 4-5, 2020

Federal Register, Vol. 85, No. 41, Monday, March 2, 2020 (FR Doc. 2020-04169, filed 2-28-20)

Future NACMH meetings will be announced through the Federal Register at a later date.

Maria G. Button,
Director, Executive Secretariat.

[FR Doc. 2020-12505 Filed 6-12-20; 8:45 am]

BILLING CODE 4165-15-P